NUCLEAR REGULATORY COMMISSION

[Docket No. 40-2259]

Notice of Request to Terminate Source Material, License SUA-1524, for the Green Mountain Ion-Exchange Site in Fremont County, WY and Opportunity to Provide Comments and to Request a Hearing

I. Introduction

The U. S. Nuclear Regulatory Commission (NRC) has received, by letter dated October 24, 2002, a final status survey (completion) report for the decommissioned Green Mountain Ion-Exchange (GMIX) site near Jeffrey City, Wyoming, and a request to terminate the U.S. Energy Corporation (USEC) license SUA-1524 for the site.

The GMIX site is located in the Crooks Gap Mining District in Fremont County. The facility consisted of two buildings and two settling ponds and separated uranium from mine water by the ion-exchange process. The facility ceased operation in 1987. When USEC bought the property in 1988, the NRC granted a “possession only” source material license. The facility remained in stand-by status and USEC submitted a decommissioning plan in 1993 that was approved, after modifications, in 1996. USEC requested a delay in initiation of decommissioning that was granted September 20, 1999. Building demolition and soil removal was accomplished in 2001.

The NRC staff has initiated review of the completion report and indicated, by electronic mail on November 25, 2002, that the submittal was incomplete. The licensee provided additional data by letter dated November 26, 2002, that completes the report. The NRC staff is now preparing a technical evaluation report for the decommissioning activities and will determine if all the applicable regulations have been met for license termination. Letters have been received from the site land managers, Bureau of Land Management (November 27, 2002) and the Wyoming Department of Environmental Quality, Land Quality Division (December 4, 2002) that indicate no objection to termination of the USEC license.

II. Opportunity To Provide Comments

The NRC is providing notice to individuals in the vicinity of the facility that the NRC is in receipt of this request, and will accept comments concerning this action within 30 days of the publication of this notice in the Federal Register. The comments may be provided to the Chief, Rules and Directives Branch, Division of Administrative Services, Office of Administration, U.S. Nuclear Regulatory Commission, Washington, DC 20555-0001, and should cite the publication date and page number of this Federal Register notice. Written comments may also be delivered to Room T-6 D59, Two White Flint North, 11545 Rockville Pike, Rockville, MD 20852, from 7:30 a.m. until 4:15 p.m. on Federal workdays.

III. Opportunity To Request a Hearing

The NRC hereby provides notice that this is a proceeding on an application for termination of a license falling within the scope of subpart L, “Informal Hearing Procedures for Adjudications in Materials and Operator Licensing Proceedings' of NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

(1) The applicant, U.S. Energy Corporation, 877 North 8th Street, Riverton, WY 82501, Attention: Fred Craft; and

(2) The NRC staff, by delivery to the General Counsel, One White Flint North, 11555 Rockville Pike, Rockville, MD 20852, or by mail addressed to the Office of the General Counsel, U.S. Nuclear Regulatory Commission, Washington, DC 20555. Because of continuing disruptions in the delivery of mail to United States Government offices, it is requested that requests for hearing be also transmitted to the Office of the General Counsel, either by means of facsimile transmission to 301-415-3725, or by e-mail to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

IV. Other Information

The application for license termination is available for inspection at NRC's Public Electronic Reading Room at http://www.nrc.gov/reading-rm/adams.html (ADAMS Accession Numbers: ML023180642 and ML023440223). Documents may also be examined and/or copied for a fee, at the NRC's Public Document Room, located at One White Flint North, 11555 Rockville Pike, Rockville, MD 20852. Any questions with respect to this action should be referred to Elaine Brummett, Fuel Cycle Facilities Branch, Division of Fuel Cycle Safety and Safeguards, Office of Nuclear Material Safety and Safeguards, U.S. Nuclear Regulatory Commission, Mail Stop T8-A33, Washington, DC 20555-0001. Telephone: (301) 415-6606; Fax: (301) 415-5390.

Dated at Rockville, Maryland, this 24th day of December, 2002.
For the Nuclear Regulatory Commission.
Daniel M. Gillen,
Chief, Fuel Cycle Facilities Branch, Division of Fuel Cycle Safety and Safeguards, Office of Nuclear Material Safety and Safeguards.

[FR Doc. 03-83 Filed 1-2-03; 8:45 am]

BILLING CODE 7590-01-P